DEPARTMENT OF HOMELAND SECURITY

Coast Guard

[Docket No. USCG-2022-0047]

Port Access Route Study: Approaches to Maine, New Hampshire, and Massachusetts

AGENCY: Coast Guard, DHS.

ACTION: Notification of inquiry and public meetings; request for comments.

SUMMARY: The Coast Guard is seeking additional information related to the notice of study that was published on March 31, 2022, regarding the Approaches to Maine, New Hampshire, and Massachusetts Port Access Route Study (MNMPARS). Following a review of preliminary data and submitted comments, we have identified several areas of additional inquiry related to the study. We invite your comments and responses to the proposed questions and information requests as well as all other comments that address potential impacts to navigation within the area of study.

DATES: Comments and related material must be received on or before August 29, 2022. Commenters should be aware that the electronic Federal Docket Management System will not accept comments after midnight Eastern Daylight Time on the last day of the comment period.

Although the Coast Guard highly encourages comments and related material to be submitted directly to the electronic docket, five in-person public meetings will be held to provide an opportunity for oral comment on Tuesday, August 2, 2022, from 3 p.m. to 5 p.m., on Wednesday, August 3, 2022, from 3 p.m. to 5 p.m., on Wednesday, August 10, 2022, from 3 p.m. to 5 p.m., on Thursday, August 11, 2022, from 3 p.m. to 5 p.m., and on Wednesday, August 17, 2022, from 3 p.m. to 5 p.m. In addition, a virtual public meeting will also be held on Thursday, August 18, 2022, from 6 p.m. to 8 p.m. via webinar and teleconference to provide an oral comment opportunity for those unable to attend the in-person events. See the “Public Participation and Request for Comments” portion of the SUPPLEMENTARY INFORMATION section for more information on the public meeting dates, times, and locations.

ADDRESSES: You may submit comments identified by docket number USCG-2022-0047 using the Federal eRulemaking Portal http://www.regulations.gov. See the “Public Participation and Request for Comments” portion of the SUPPLEMENTARY INFORMATION section for further instructions on submitting comments.

FOR FURTHER INFORMATION CONTACT: If you have questions about this supplemental notice of study, call or email LTJG Thomas Davis, First Coast Guard District (dpw), U.S. Coast Guard; telephone (617) 223-8632, email SMB-D1Boston-MNMPARS@uscg.mil.

SUPPLEMENTARY INFORMATION:

I. Table of Abbreviations

ACPARS Atlantic Coast Port Access Route Study

AIS Automatic Identification System

COMDTINST Commandant Instruction

DHS Department of Homeland Security

EEZ Exclusive Economic Zone

MNMPARS Approaches to Maine, New Hampshire, and Massachusetts Port Access Route Study

MTS Marine Transportation System

PARS Port Access Route Study

TSS Traffic Separation Scheme

USCG United States Coast Guard

II. Background and Purpose

On March 31, 2022, the Coast Guard published a Notice of Study; request for comments entitled “Port Access Route Study (PARS): Approaches to Maine, New Hampshire, and Massachusetts” in the Federal Register (87 FR 18800). The purpose of the MNMPARS is to evaluate the adequacy of existing vessel routing measures and determine whether additional vessel routing measures are necessary for port approaches to Maine, New Hampshire, and Massachusetts and international and domestic transit areas in the First Coast Guard District area of responsibility. This undertaking is required by 46 U.S.C. 70003, which calls for the Coast Guard to conduct a PARS prior to establishing fairways or traffic separation schemes (TSSs).

The public was afforded a 45-day comment period during which the Coast Guard received 14 comments in response to the Federal Register Notice and various other outreach efforts. A review of available data and submitted comments has identified additional opportunities for inquiry that may help inform several aspects of the study.

All comments and supporting documents are available in a public docket and can be viewed at http://www.regulations.gov. In the “Search” box insert “USCG-2022-0047” and click “Search.” Then scroll down to and click on the “notice” entitled “Port Access Route Study: Approaches to Maine, New Hampshire, and Massachusetts.” This will open to the “Document Details” page. Then click on the “Browse Comments” tab. On the comment tab, you can search and filter comments.

III. Information Requested

The Coast Guard is seeking responses to various general and port specific questions to gain additional insight into issues impacting regional navigation. Where possible and appropriate, please provide sources or other amplifying information to back up or explain your responses. Also, please provide as much relevant detail as possible when describing your position on a subject and how you've reached your conclusion.

A. General Questions: Have maritime community members experienced or do they anticipate any impacts to navigation in the areas within or adjacent to the Gulf of Maine, the New Hampshire Seacoast, or Massachusetts Bay?

1. How will vessel navigation routes change as a result of planned or potential future developments?

2. What current waterway operations affect navigation? In what way?

3. Are there strains on the current vessel routing systems?

4. Are modifications to existing vessel routing measures needed to address hazards and improve efficiency? If so, please describe.

5. Does the maritime community request additional routing measures, other than those that currently exist? Please be as specific as possible.

B. Port Specific Questions: Analysis of AIS data suggests several primary vessel traffic patterns are used to access principal ports within the study area. Based on observed traffic density and public comment, the Coast Guard requests the following feedback:

1. Are alternate routes that bypass traffic lanes in the approaches to Portland used as a matter of convenience or hazard avoidance? If so, in what regard? Please be specific.

2. Should the Portland Eastern and Southern Approach TSS be amended to better accommodate inbound/outbound traffic between Portland, Boston, and Canada? In what ways would changes be beneficial or counterproductive?

3. Are additional routing measures needed to provide greater safety for towing vessel traffic transiting offshore of Massachusetts, New Hampshire, and Maine? If so, what type of measures and how would they be beneficial?

4. Are additional routing measures, such as a Northeast Approach TSS, necessary to support Massachusetts Bay/Boston commercial traffic?

5. Is a Navigational Safety Fairway necessary to accommodate vessel traffic from Boston to the Bay of Fundy?

6. Are additional or amendments to current routing measures needed for approaches to other port areas including Eastport, Searsport, and Portsmouth?

IV. Public Participation and Request for Comments

We encourage you to participate in this study by submitting responses to these questions and any other relevant comments and related materials.

A. Submitting Comments: To submit your comment online, go to http://www.regulations.gov, and insert “USCG-2022-0047” in the “search box.” Click “Search”. Then click “Comment.” The “Comment” button can be found on the following pages:

• Docket Details page when a document within the docket is open for comment,

• Document Details page when the document is open for comment, and

• Document Search Tab with all search results open for comment displaying a “Comment” button.

Clicking “Comment” on any of the above pages will display the comment form. You can enter your comment on the form, attach files (maximum of 20 files up to 10MB each), and choose whether to identify yourself as an individual, an organization, or anonymously. Be sure to complete all required fields depending on which identity you have chosen. Once you have completed all required fields and chosen an identity, the “Submit Comment” button is enabled. Upon completion, you will receive a Comment Tracking Number for your comment. For additional step by step instructions, please see the Frequently Asked Questions page on http://www.regulations.gov or by clicking https://www.regulations.gov/faq.

We accept anonymous comments. Comments we post to http://www.regulations.gov will include any personal information you have provided. We review all comments and materials received during the comment period, but we may choose not to post off-topic, inappropriate, or duplicate comments that we receive.

B. Public Meetings: The Coast Guard plans to host six public meetings, five in-person and one virtual, to receive oral comments on this notice. If you bring written comments to the in-person public meetings, you may submit them to LTJG Thomas Davis and they will be added to the online public docket. We recommend that you include your name and preferred method of contact in the body of your document so that we can contact you if we have questions regarding your submission. We will provide a written summary of the oral comments received and will place that summary in the docket. The public meeting schedule is as follows:

1. Portsmouth, NH: The first public meeting on Tuesday, August 2, 2022, from 3 p.m. to 5 p.m., will be held at the NH Department of Environmental Services, 222 International Drive, Suite 175, Portsmouth, NH 03801.

2. Salem, MA: The second public meeting on Wednesday, August 3, 2022, from 3 p.m. to 5 p.m., will be held at the Winter Island Function Hall, 50 Winter Island Road, Salem, MA 01970.

3. Jonesport, ME: The third public meeting on Wednesday, August 10, 2022, from 3 p.m. to 5 p.m., will be held at USCG Station Jonesport, 9 Bridge Street, Jonesport, ME 04649.

4. Belfast, ME: The fourth public meeting on Thursday, August 11, 2022, from 3 p.m. to 5 p.m., will be held at the University of Maine Hutchinson Center, Conference Room 138, 80 Belmont Avenue, Belfast, ME 04915.

5. Portland, ME: The fifth public meeting on Wednesday, August 17, 2022, from 3 p.m. to 5 p.m., will be held at the International Marine Terminal, 454 Commercial Street, Portland, ME 0410.

6. The sixth public meeting will be held virtually via Zoom and teleconference on Thursday, August 18, 2022, from 6 p.m. to 8 p.m.

A link and login instructions for the virtual meeting, as well as additional information regarding the in-person meetings, will be posted to the “News and Events” section of the CG Sector Boston Homeport website at https://homeport.uscg.mil/port-directory/boston and the CG Sector Northern New England Homeport website at https://homeport.uscg.mil/port-directory/northern-new-england-(portland-maine), by July 18, 2022.

C. How do I find and browse for posted comments on Regulations.gov: On the previous version of Regulations.gov, users browsed for comments on the Docket Details page. However, since comments are made on individual documents, not dockets, new Regulations.gov organizes comments under their corresponding document. To access comments and documents submitted to this notice go to http://www.regulations.gov and insert “USCG-2022-0047” in the “search box.” Click “Search.” Then scroll down to and click on the “notice” entitled “Port Access Route Study: Notification of inquiry and public meetings; request for comments.” This will open to the “Document Details” page. Then click on the “Browse Comments” tab. On the comment tab, you can search and filter comments. Note: If no comments have been posted to a document, the “Comments” tab will not appear on the Document Details page.

D. If you need additional help navigating the new Regulations.gov: For additional step by step instructions to submit a comment or to view submitted comments or other documents please see the Frequently Asked Questions (FAQs) at http://www.regulations.gov/faqs or call or email the person in the FOR FURTHER INFORMATION CONTACT section of this document for alternate instructions.

E. Privacy Act: Anyone can search the electronic form of comments received into any of our dockets by the name of the individual submitting the comment (or signing the comment, if submitted on behalf of an association, business, labor union, etc.). You may review a Privacy Act system of records notice regarding DHS's eRulemaking in the March 11, 2020 issue of the Federal Register (85 FR 14226).

This notice is published under the authority of 5 U.S.C. 552(a).

Dated: June 10, 2022.
J.W. Mauger,
Rear Admiral, U.S. Coast Guard, Commander, First Coast Guard District.

[FR Doc. 2022-13272 Filed 6-27-22; 8:45 am]

BILLING CODE 9110-04-P